DEPARTMENT OF TRANSPORTATION

National Highway Traffic Safety Administration

49 CFR Part 541

[Docket No. NHTSA-2005-20278]

RIN 2127-AJ53

Final Theft Data; Motor Vehicle Theft Prevention Standard

AGENCY: National Highway Traffic Safety Administration (NHTSA), Department of Transportation.

ACTION: Publication of final theft data.

SUMMARY: This document publishes the final data on thefts of model year (MY) 2003 passenger motor vehicles that occurred in calendar year (CY) 2003. The final 2003 theft data indicate a decrease in the vehicle theft rate experienced in CY/MY 2003. The final theft rate for MY 2003 passenger vehicles stolen in calendar year 2003 (1.84 thefts per thousand vehicles) decreased by 26.1 percent from the theft rate for CY/MY 2002 (2.49 thefts per thousand vehicles) when compared to the theft rate experienced in CY/MY 2002. Publication of these data fulfills NHTSA's statutory obligation to periodically obtain accurate and timely theft data and publish the information for review and comment.

FOR FURTHER INFORMATION CONTACT: Ms. Deborah Mazyck, Office of International Policy, Fuel Economy and Consumer Programs, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the § 33104(b)(4) mandate, this document reports the final theft data for CY 2003, the most recent calendar year for which data are available.

In calculating the 2003 theft rates, NHTSA followed the same procedures it used in calculating the MY 2002 theft rates. (For 2002 theft data calculations, see 69 FR 53354, September 1, 2004.) As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2003 theft rate for each vehicle line was calculated by dividing the number of reported thefts of MY 2003 vehicles of that line stolen during calendar year 2003 by the total number of vehicles in that line manufactured for MY 2003, as reported to the Environmental Protection Agency (EPA).

The final 2003 theft data show a decrease in the vehicle theft rate when compared to the theft rate experienced in CY/MY 2002. The final theft rate for MY 2003 passenger vehicles stolen in calendar year 2003 decreased to 1.84 thefts per thousand vehicles produced, a decrease of 26.1 percent from the rate of 2.49 thefts per thousand vehicles experienced by MY 2002 vehicles in CY 2002. For MY 2003 vehicles, out of a total of 217 vehicle lines, 21 lines had a theft rate higher than 3.5826 per thousand vehicles, the established median theft rate for MYs 1990/1991. (See 59 FR 12400, March 16, 1994.) Of the 21 vehicle lines with a theft rate higher than 3.5826, 18 are passenger car lines, two are multipurpose passenger vehicle lines, and one is a light-duty truck line.

The MY 2003 theft rate reduction is consistent with the general decreasing trend of theft rates over the past ten years as indicated by Figure 1.

The agency believes that the decrease could be the result of several factors including the increased use of standard antitheft devices (i.e., immobilizers), vehicle partsmarking, increased and improved prosecution efforts by law enforcement organizations and, increased public awareness measures have contributed to the overall reduction in vehicle thefts.

On Wednesday, May 2, 2005, NHTSA published the preliminary theft rates for CY 2003 passenger motor vehicles in the Federal Register (70 FR 10066). The agency tentatively ranked each of the MY 2003 vehicle lines in descending order of theft rate. The public was requested to comment on the accuracy of the data and to provide final production figures for individual vehicle lines. The agency used written comments to make the necessary adjustments to its data.

The agency received a written comment from American Honda (Honda). In its comments, Honda informed the agency that there was an error in the published production volume for the Honda S2000 vehicle line. However, upon further review by Honda, it was confirmed that the reported production volume was correct. Therefore, the published production volume as reported to the agency will remain unchanged.

The following list represents NHTSA's final calculation of theft rates for all 2003 passenger motor vehicle lines. This list is intended to inform the public of calendar year 2003 motor vehicle thefts of model year 2003 vehicles and does not have any effect on the obligations of regulated parties under 49 U.S.C. Chapter 331, Theft Prevention.

Final Report of Theft Rates for Model Year 2003 Passenger Motor Vehicles Stolen in Calendar Year 2003
| Manufacturer | Make/model (line) | Thefts 2003 | Production (Mfr's) 2003 | 2003 Theft rate (per 1,000 vehicles produced)
1 | DAIMLERCHRYSLER | DODGE STRATUS | 682 | 62,496 | 10.9127
2 | DAIMLERCHRYSLER | DODGE INTREPID | 392 | 40,366 | 9.7111
3 | MITSUBISHI | MONTERO | 94 | 13,604 | 6.9097
4 | MITSUBISHI | DIAMANTE | 57 | 9,981 | 5.7109
5 | TOYOTA | TUNDRA PICKUP | 162 | 28,981 | 5.5899
6 | DAIMLERCHRYSLER | SEBRING | 180 | 35,599 | 5.0563
7 | MITSUBISHI | MONTERO SPORT | 174 | 35,508 | 4.9003
8 | MITSUBISHI | GALANT | 468 | 97,418 | 4.8040
9 | JAGUAR | XJR | 4 | 845 | 4.7337
10 | DAIMLERCHRYSLER | DODGE NEON | 590 | 127,902 | 4.6129
11 | DAIMLERCHRYSLER | CHRYSLER SEBRING CONVERTIBLE | 61 | 13,337 | 4.5737
12 | DAIMLERCHRYSLER | CHRYSLER CONCORDE | 61 | 13,690 | 4.4558
13 | DAIMLERCHRYSLER | CHRYSLER 300M | 61 | 13,719 | 4.4464
14 | SUZUKI | AERIO | 150 | 33,931 | 4.4207
15 | FORD MOTOR CO. | FORD MUSTANG | 598 | 143,823 | 4.1579
16 | NISSAN | SENTRA | 293 | 71,734 | 4.0845
17 | GENERAL MOTORS | OLDSMOBILE ALERO | 333 | 86,229 | 3.8618
18 | MITSUBISHI | LANCER | 283 | 75,585 | 3.7441
19 | JAGUAR | XK8 | 8 | 2,151 | 3.7192
20 | VOLVO | S40 | 11 | 3,014 | 3.6496
21 | MITSUBISHI | ECLIPSE | 333 | 92,062 | 3.6171
22 | GENERAL MOTORS | PONTIAC GRAND PRIX | 249 | 70,395 | 3.5372
23 | DAIMLERCHRYSLER | CHRYSLER VOYAGER VAN | 72 | 20,642 | 3.4880
24 | NISSAN | MAXIMA | 211 | 62,537 | 3.3740
25 | GENERAL MOTORS | CHEVROLET MONTE CARLO | 228 | 67,610 | 3.3723
26 | BMW | M3 | 30 | 8,964 | 3.3467
27 | GENERAL MOTORS | PONTIAC GRAND AM | 450 | 145,150 | 3.1002
28 | FORD MOTOR CO. | LINCOLN LS | 72 | 23,472 | 3.0675
29 | HONDA | S2000 | 24 | 7,862 | 3.0527
30 | SUZUKI | VITARA/GRAND | 108 | 35,437 | 3.0477
31 | KIA MOTORS | OPTIMA | 70 | 23,340 | 2.9991
32 | DAIMLERCHRYSLER | DODGE CARAVAN/GRAND CARAVAN | 725 | 248,733 | 2.9148
33 | GENERAL MOTORS | CHEVROLET CAVALIER | 633 | 218,340 | 2.8991
34 | SUBARU | IMPREZA | 67 | 23,333 | 2.8715
35 | TOYOTA | ECHO | 101 | 35,276 | 2.8631
36 | GENERAL MOTORS | CHEVROLET MALIBU | 507 | 179,565 | 2.8235
37 | GENERAL MOTORS | CHEVROLET BLAZER S10/T10 | 152 | 54,165 | 2.8062
38 | MERCEDES-BENZ | 215 (CL-CLASS) | 9 | 3,214 | 2.8002
39 | BMW | M5 | 5 | 1,902 | 2.6288
40 | NISSAN | ALTIMA | 591 | 225,388 | 2.6221
41 | JAGUAR | XJ8 | 10 | 3,816 | 2.6205
42 | VOLVO | C70 | 4 | 1,540 | 2.5974
43 | GENERAL MOTORS | BUICK REGAL | 89 | 35,374 | 2.5160
44 | KIA MOTORS | SPECTRA | 176 | 71,249 | 2.4702
45 | GENERAL MOTORS | BUICK CENTURY | 363 | 148,506 | 2.4443
46 | JAGUAR | S-TYPE | 55 | 22,608 | 2.4328
47 | TOYOTA | LEXUS SC | 26 | 10,800 | 2.4074
48 | FORD MOTOR CO. | LINCOLN TOWN CAR | 180 | 75,624 | 2.3802
49 | TOYOTA | COROLLA | 786 | 330,244 | 2.3801
50 | FORD MOTOR CO. | FORD FOCUS | 610 | 257,453 | 2.3694
51 | HYUNDAI | ACCENT | 120 | 51,425 | 2.3335
52 | NISSAN | 350Z | 92 | 39,448 | 2.3322
53 | TOYOTA | CELICA | 42 | 18,062 | 2.3253
54 | GENERAL MOTORS | SATURN LS | 164 | 71,082 | 2.3072
55 | DAIMLERCHRYSLER | CHRYSLER PT CRUISER | 272 | 118,798 | 2.2896
56 | HONDA | ACURA 3.2 CL | 37 | 16,327 | 2.2662
57 | FORD MOTOR CO. | FORD TAURUS | 757 | 334,329 | 2.2642
58 | GENERAL MOTORS | PONTIAC SUNFIRE | 85 | 37,813 | 2.2479
59 | BMW | 7 | 46 | 21,387 | 2.1508
60 | HYUNDAI | TIBURON | 87 | 40,830 | 2.1308
61 | TOYOTA | LEXUS IS | 30 | 14,445 | 2.0768
62 | FORD MOTOR CO. | MERCURY MOUNTAINEER | 95 | 45,950 | 2.0675
63 | GENERAL MOTORS | CHEVROLET CORVETTE | 68 | 33,118 | 2.0533
64 | GENERAL MOTORS | CADILLAC DEVILLE | 157 | 77,703 | 2.0205
65 | HYUNDAI | XG | 18 | 8,942 | 2.0130
66 | HONDA | ACURA RSX | 51 | 26,035 | 1.9589
67 | KIA MOTORS | RIO | 86 | 44,120 | 1.9492
68 | MAZDA | PROTÉGÉ | 164 | 84,404 | 1.9430
69 | GENERAL MOTORS | CADILLAC SEVILLE | 36 | 18,627 | 1.9327
70 | GENERAL MOTORS | PONTIAC BONNEVILLE | 67 | 34,675 | 1.9322
71 | MITSUBISHI | OUTLANDER | 93 | 48,273 | 1.9265
72 | FORD MOTOR CO. | MERCURY SABLE | 123 | 64,477 | 1.9077
73 | DAIMLERCHRYSLER | JEEP LIBERTY | 331 | 177,461 | 1.8652
74 | NISSAN | INFINITI QX4 | 14 | 7,766 | 1.8027
75 | MERCEDES-BENZ | 220 (S-CLASS) | 37 | 20,679 | 1.7893
76 | TOYOTA | MATRIX | 153 | 87,440 | 1.7498
77 | DAIMLERCHRYSLER | CHRYSLER TOWN & COUNTRY | 216 | 123,575 | 1.7479
78 | GENERAL MOTORS | GMC SONOMA PICKUP | 71 | 41,164 | 1.7248
79 | HYUNDAI | SONATA | 129 | 77,468 | 1.6652
80 | DAIMLERCHRYSLER | JEEP GRAND CHEROKEE | 190 | 114,736 | 1.6560
81 | MERCEDES-BENZ | 129 (SL-CLASS) | 34 | 20,685 | 1.6437
82 | GENERAL MOTORS | CHEVROLET IMPALA | 404 | 248,078 | 1.6285
83 | FORD MOTOR CO. | FORD EXPLORER | 537 | 332,158 | 1.6167
84 | HYUNDAI | ELANTRA | 210 | 130,031 | 1.6150
85 | VOLVO | S60 | 31 | 19,532 | 1.5871
86 | FORD MOTOR CO. | FORD ESCAPE | 240 | 151,770 | 1.5813
87 | AUDI | A8 | 1 | 643 | 1.5552
88 | NISSAN | FRONTIER PICKUP | 105 | 68,372 | 1.5357
89 | VOLVO | S80 | 12 | 7,927 | 1.5138
90 | TOYOTA | CAMRY/SOLARA | 617 | 408,093 | 1.5119
91 | GENERAL MOTORS | PONTIAC AZTEK | 44 | 29,564 | 1.4883
92 | KIA MOTORS | SORENTO | 63 | 42,837 | 1.4707
93 | FORD MOTOR CO. | FORD RANGER PICKUP | 331 | 226,132 | 1.4637
94 | DAIMLERCHRYSLER | JEEP WRANGLER | 94 | 64,343 | 1.4609
95 | DAIMLERCHRYSLER | DODGE DAKOTA PICKUP | 31 | 21,582 | 1.4364
96 | FORD MOTOR CO. | FORD CROWN VICTORIA | 58 | 41,637 | 1.3930
97 | NISSAN | INFINITI I35 | 24 | 17,334 | 1.3846
98 | HONDA | ACURA 3.5 RL | 4 | 2,903 | 1.3779
99 | TOYOTA | LEXUS GS | 20 | 14,555 | 1.3741
100 | GENERAL MOTORS | CHEVROLET S10/T10 PICKUP | 218 | 159,920 | 1.3632
101 | NISSAN | INFINITI G35 | 111 | 81,505 | 1.3619
102 | TOYOTA | TACOMA PICKUP | 209 | 157,182 | 1.3297
103 | FORD MOTOR CO. | FORD ESCORT | 28 | 21,162 | 1.3231
104 | TOYOTA | 4RUNNER | 133 | 101,254 | 1.3135
105 | MAZDA | 6 | 72 | 54,829 | 1.3132
106 | GENERAL MOTORS | CHEVROLET TRACKER | 54 | 41,730 | 1.2940
107 | TOYOTA | RAV4 | 100 | 77,319 | 1.2933
108 | GENERAL MOTORS | OLDSMOBILE BRAVADA | 11 | 8,642 | 1.2729
109 | PORSCHE | BOXSTER | 10 | 7,880 | 1.2690
110 | GENERAL MOTORS | GMC SAFARI VAN | 11 | 8,738 | 1.2589
111 | GENERAL MOTORS | PONTIAC VIBE | 88 | 69,941 | 1.2582
112 | HONDA | CIVIC | 369 | 300,485 | 1.2280
113 | VOLKSWAGEN | GOLF/GTI | 41 | 34,049 | 1.2041
114 | FORD MOTOR CO. | MERCURY GRAND MARQUIS | 127 | 105,615 | 1.2025
115 | HONDA | ACCORD | 499 | 427,660 | 1.1668
116 | GENERAL MOTORS | CHEVROLET ASTRO VAN | 38 | 32,687 | 1.1625
117 | TOYOTA | PRIUS | 16 | 13,826 | 1.1572
118 | NISSAN | XTERRA | 87 | 75,351 | 1.1546
119 | TOYOTA | MR2 SPYDER | 6 | 5,209 | 1.1519
120 | ISUZU | ASCENDER | 4 | 3,476 | 1.1507
121 | VOLKSWAGEN | JETTA | 171 | 148,729 | 1.1497
122 | NISSAN | PATHFINDER | 56 | 48,772 | 1.1482
123 | JAGUAR | XKR | 1 | 880 | 1.1364
124 | HONDA | ACURA 3.2 TL | 105 | 93,899 | 1.1182
125 | GENERAL MOTORS | CHEVROLET TRAILBLAZER | 205 | 194,427 | 1.0544
126 | AUDI | A6/A6 QUATTRO/S6/AVANT | 18 | 17,116 | 1.0516
127 | ISUZU | AXIOM | 4 | 3,848 | 1.0395
128 | MERCEDES-BENZ | 203 (C-CLASS) | 65 | 63,327 | 1.0264
129 | GENERAL MOTORS | CADILLAC CTS | 69 | 68,264 | 1.0108
130 | LAND ROVER | FREELANDER | 10 | 9,985 | 1.0015
131 | NISSAN | INFINITI Q45 | 3 | 3,034 | 0.9888
132 | MAZDA | B SERIES PICKUP | 19 | 19,342 | 0.9823
133 | AUDI | TT | 6 | 6,138 | 0.9775
134 | TOYOTA | LEXUS ES | 60 | 61,512 | 0.9754
135 | MERCEDES-BENZ | 210 (E-CLASS) | 61 | 62,547 | 0.9753
136 | NISSAN | INFINITI M45 | 6 | 6,402 | 0.9372
137 | FORD MOTOR CO. | FORD EXPLORER SPORT TRAC | 58 | 62,059 | 0.9346
138 | TOYOTA | LEXUS LS | 20 | 21,592 | 0.9263
139 | TOYOTA | LEXUS GX | 21 | 22,932 | 0.9158
140 | NISSAN | MURANO | 50 | 54,632 | 0.9152
141 | BMW | 5 | 36 | 39,342 | 0.9151
142 | FORD MOTOR CO. | FORD WINDSTAR VAN | 134 | 148,016 | 0.9053
143 | PORSCHE | 911 | 9 | 10,027 | 0.8976
144 | BMW | 3 | 90 | 100,589 | 0.8947
145 | JAGUAR | X-TYPE | 27 | 30,483 | 0.8857
146 | VOLVO | XC70 | 8 | 9,175 | 0.8719
147 | TOYOTA | AVALON | 59 | 68,872 | 0.8567
148 | GENERAL MOTORS | GMC ENVOY | 71 | 83,069 | 0.8547
149 | KIA MOTORS | SEDONA VAN | 44 | 51,515 | 0.8541
150 | VOLKSWAGEN | PASSAT | 89 | 105,230 | 0.8458
151 | GENERAL MOTORS | OLDSMOBILE AURORA | 3 | 3,550 | 0.8451
152 | AUDI | A4/A4 QUATTRO | 40 | 47,520 | 0.8418
153 | GENERAL MOTORS | CHEVROLET VENTURE VAN | 80 | 96,022 | 0.8331
154 | ISUZU | RODEO | 11 | 13,625 | 0.8073
155 | MAZDA | MX-5 MIATA | 10 | 12,458 | 0.8027
156 | HYUNDAI | SANTA FE | 79 | 98,515 | 0.8019
157 | MERCEDES-BENZ | 208 (CLK-CLASS) | 25 | 31,560 | 0.7921
158 | JAGUAR | VANDEN PLAS/SUPER V8 | 1 | 1,265 | 0.7905
159 | GENERAL MOTORS | BUICK LESABRE | 97 | 124,342 | 0.7801
160 | TOYOTA | SIENNA VAN | 33 | 42,688 | 0.7731
161 | GENERAL MOTORS | SATURN ION | 73 | 96,382 | 0.7574
162 | FORD MOTOR CO. | FORD THUNDERBIRD | 10 | 13,948 | 0.7169
163 | MAZDA | TRIBUTE | 33 | 47,099 | 0.7007
164 | GENERAL MOTORS | PONTIAC MONTANA VAN | 32 | 45,936 | 0.6966
165 | HONDA | ELEMENT | 51 | 75,457 | 0.6759
166 | HONDA | ACURA MDX | 36 | 55,826 | 0.6449
167 | TOYOTA | LEXUS RX | 22 | 34,745 | 0.6332
168 | GENERAL MOTORS | BUICK RENDEZVOUS | 42 | 67,239 | 0.6246
169 | TOYOTA | HIGHLANDER | 77 | 128,157 | 0.6008
170 | GENERAL MOTORS | OLDSMOBILE SILHOUETTE VAN | 11 | 18,330 | 0.6001
171 | VOLKSWAGEN | NEW BEETLE | 35 | 58,891 | 0.5943
172 | HONDA | PILOT | 71 | 123,095 | 0.5768
173 | GENERAL MOTORS | SATURN VUE | 58 | 109,455 | 0.5299
174 | BMW | Z4 | 12 | 24,198 | 0.4959
175 | VOLVO | XC90 | 6 | 12,404 | 0.4837
176 | VOLVO | V70 | 3 | 6,242 | 0.4806
177 | GENERAL MOTORS | BUICK PARK AVENUE | 14 | 29,309 | 0.4777
178 | SUBARU | BAJA | 7 | 14,966 | 0.4677
179 | SAAB | 9-5 | 7 | 15,159 | 0.4618
180 | NISSAN | INFINITI FX35 | 8 | 17,691 | 0.4522
181 | BMW | MINI COOPER | 15 | 33,255 | 0.4511
182 | HONDA | CR-V | 61 | 140,449 | 0.4343
183 | SAAB | 9-3 | 13 | 33,653 | 0.3863
184 | SUBARU | LEGACY/OUTBACK | 30 | 84,858 | 0.3535
185 | VOLVO | V40 | 3 | 9,155 | 0.3277
186 | SUBARU | FORESTER | 21 | 65,691 | 0.3197
187 | MERCEDES-BENZ | 170 (SLK-CLASS) | 2 | 6,526 | 0.3065
188 | MAZDA | MPV VAN | 10 | 33,563 | 0.2979
189 | HONDA | ODYSSEY VAN | 48 | 165,197 | 0.2906
190 | GENERAL MOTORS | SATURN LW | 2 | 7,251 | 0.2758
191 | NISSAN | INFINITI FX45 | 2 | 7,743 | 0.2583
192 | ASTON MARTIN | VANQUISH | 0 | 286 | 0.0000
193 | ASTON MARTIN | VANTAGE | 0 | 399 | 0.0000
194 | AUDI | ALLROAD QUATTRO | 0 | 5,256 | 0.0000
195 | AUDI | RS6 | 0 | 1,436 | 0.0000
196 | AUDI | S8 | 0 | 301 | 0.0000
197 | BMW | Z8 | 0 | 539 | 0.0000
198 | DAIMLERCHRYSLER | DODGE VIPER | 0 | 1,707 | 0.0000
199 | FERRARI | 360 | 0 | 885 | 0.0000
200 | FERRARI | 456 | 0 | 32 | 0.0000
201 | FERRARI | 575M | 0 | 167 | 0.0000
202 | FERRARI | ENZO | 0 | 102 | 0.0000
203 | GENERAL MOTORS | CADILLAC FUNERAL COACH/HEARSE | 0 | 988 | 0.0000
204 | GENERAL MOTORS | CADILLAC LIMOUSINE | 0 | 692 | 0.0000
205 | HONDA | ACURA NSX | 0 | 176 | 0.0000
206 | HONDA | INSIGHT | 0 | 1,011 | 0.0000
207 | JAGUAR | XJS | 0 | 594 | 0.0000
208 | LAMBORGHINI | MURCIELAGO | 0 | 75 | 0.0000
209 | LOTUS | ESPRIT | 0 | 96 | 0.0000
210 | MASERATI | COUPE/SPYDER | 0 | 408 | 0.0000
211 | MITSUBISHI | NATIVA ¹ | 0 | 470 | 0.0000
212 | QUANTUM TECH. | CHEVROLET CAVALIER | 0 | 313 | 0.0000
213 | ROLLS ROYCE | BENTLEY | 0 | 2 | 0.0000
214 | ROLLS ROYCE | BENTLEY ARNAGE | 0 | 107 | 0.0000
215 | ROLLS ROYCE | BENTLEY AZURE | 0 | 35 | 0.0000
216 | ROLLS ROYCE | CONTINENTAL R | 0 | 1 | 0.0000
217 | VOLKSWAGEN | EUROVAN/CAMPER | 0 | 4,662 | 0.0000
¹ This vehicle was manufactured for sale only in Puerto Rico and represents the U.S. version of Mitsubishi's Montero Sport line.

Issued on: August 3, 2005.
Stephen R. Kratzke,
Associate Administrator for Rulemaking.

[FR Doc. 05-15689 Filed 8-8-05; 8:45 am]

BILLING CODE 4910-59-P